DEPARTMENT OF HOMELAND SECURITY

Federal Emergency Management Agency

[Docket ID FEMA-2010-0025]

Recovery Policy RP9523.5, Debris Removal From Waterways

AGENCY: Federal Emergency Management Agency, DHS.

ACTION: Notice of availability.

SUMMARY: This document provides notice of the availability of the final Recovery Policy RP9523.5, Debris Removal from Waterways.

DATES: This policy is effective March 29, 2010.

ADDRESSES: This final policy is available online at http://www.regulations.gov under docket ID FEMA-2010-0025 and on FEMA's Web site at http://www.fema.gov. You may also view a hard copy of the final policy at the Office of Chief Counsel, Federal Emergency Management Agency, Room 835, 500 C Street, SW., Washington, DC 20472.

FOR FURTHER INFORMATION CONTACT: Mr. Byron Mason, Federal Emergency Management Agency, 500 C Street SW., Washington, DC 20472; 202-646-4368 phone; 202-646-3304 facsimile; Byron.Mason@dhs.gov.

SUPPLEMENTARY INFORMATION: The Public Assistance Program provides, following a Presidentially-declared major disaster or emergency, supplemental Federal disaster grant assistance for the repair, replacement, or restoration of disaster damaged, publicly-owned facilities and the facilities of certain Private Non-Profit (PNP) organizations. To be eligible under the Public Assistance Program, work must be required as the result of the emergency or major disaster, be located within the designated area, and be the legal responsibility of an eligible applicant. Emergency work that must be performed to reduce or eliminate an immediate threat to life, to protect public health and safety, and to protect improved property that is threatened in a significant way as a result of the major disaster or emergency includes debris removal.

This policy was developed to provide guidance for determining the eligibility of debris removal from navigable waterways, the coastal and inland zones, and wetlands under the Public Assistance Program. Recent disaster activity, including Hurricanes Katrina and Ike, demonstrated the need for additional guidance to clarify the roles and responsibilities of FEMA, the U.S. Army Corps of Engineers (USACE), and the U.S. Coast Guard (USCG) in removing debris, wreckage, and sunken vessels from waterways. This policy draws upon recent disaster experience in delineating eligibility for debris removal from waterways under the Public Assistance Program. The USACE and USCG reviewed and provided input on this policy.

Authority: 42 U.S.C. 5170b, 5173, and 5192.

David J. Kaufman,
Director, Office of Policy and Program Analysis, Federal Emergency Management Agency.

[FR Doc. 2010-10461 Filed 5-4-10; 8:45 am]

BILLING CODE 9111-23-P